NATIONAL AERONAUTICS AND SPACE ADMINISTRATION

[Notice 04-015]

Government-Owned Inventions, Available for Licensing

AGENCY: National Aeronautics and Space Administration.

ACTION: Notice of availability of inventions for licensing.

SUMMARY: The inventions listed below are assigned to the National Aeronautics and Space Administration, have been filed in the United States Patent and Trademark office, and are available for licensing.

DATES: January 29, 2004.

FOR FURTHER INFORMATION CONTACT: Diana M. Cox, Patent Counsel, Goddard Space Flight Center, Mail Code 503, Greenbelt, MD 20771-0001; telephone (301) 286-7351; fax (301) 286-9502.

NASA Case No. GSC-14608-1: Computing Frequency By Using Generalized Zero-Crossing Applied To Intrinsic Mode Functions;

NASA Case No. GSC-14616-1: Three-Dimensional Imaging Lidar;

NASA Case No. GSC-14718-1: Autocollimator With Two Dimensional Absolute Encoder.

Dated: January 21, 2004.
Robert M. Stephens,
Deputy General Counsel.

[FR Doc. 04-1850 Filed 1-28-04; 8:45 am]

BILLING CODE 7510-01-P